DEPARTMENT OF ENERGY

Federal Energy Regulatory Commission

[Docket No. CP02-26-000]

El Paso Natural Gas Company; Notice of Application

November 21, 2001.

Take notice that on November 15, 2001, El Paso Natural Gas Company (El Paso), a Delaware corporation, P.O. Box 1087, Colorado Springs, Colorado 80944, filed in Docket No. CP02-26-000, an application pursuant to sections 7(b) and 7(c) of the Natural Gas Act (NGA), as amended, and part 157 of the Federal Energy Regulatory Commission's Regulations (Commission), for permission and approval to abandon by removal certain existing pipeline facilities and for a certificate of public convenience and necessity authorizing El Paso to replace and relocate certain pipeline facilities located in Pima County, Arizona. El Paso states that it requests expeditious authorization for the proposed relocation, replacement and abandonment no later than February 15, 2002 in order to coordinate construction with the Arizona Department of Transportation (ADOT) construction schedule anticipated to begin by March 31, 2002, all as more fully set forth in the application which is on file with the Commission and open to public inspection. Copies of this filing are on file with the Commission and are available for public inspection. This filing may also be viewed on the web at http://www.ferc.gov using the “RIMS” link, select “Docket #” and follow the instructions (call 202-208-2222 for assistance).

El Paso states that the City of Tucson, Arizona, is currently experiencing rapid commercial and residential development which has resulted in increased encroachment on El Paso's pipeline facilities. Recently, El Paso was notified by ADOT of their intent to completely renovate the Interstate-10/Interstate-19 highway interchange (I-10/I-19 Project). The I-10/I-19 Project is crossed by El Paso's existing 10-3/4” O.D. Tucson-Phoenix Lone (Line No. 1007). As a result of the pending encroachment resulting from the I-10/I-19 Project, El Paso must relocate, replace and abandon by removal a segment of Line No. 1007 affected by this public works project.

El Paso states that this type of project would normally be accomplished under its blanket certificate authorization, issued in Docket No. CP82-435-000, as a “miscellaneous rearrangement” of facilities under Section 157.208(a) of the Commission's Regulations. However, El Paso states that in March 2000, the Arizona State Historical Preservation Office (SHPO) determined that Line No. 1007 was eligible for historic designation under Section 106 of the National Historic Preservation Act. Consequently, El Paso cannot obtain the necessary “No Effect” determination required from the SHPO under the Commission's Regulations for projects undertaken pursuant to El Paso's blanket certificate authorization. El Paso states that in order for it to undertake the project proposed herein, the SHPO has determined that a programmatic agreement (PA) is required. The PA, according to El Paso, is designed to specifically address the protocols to be used for any project disturbing historically eligible segments of Line No. 1007 and that such protocols would include the documentation, photography, and any research that will record the historical aspects of Line No. 1007. Based upon the circumstances surrounding the instant project (i.e., lack of any other regulatory options and having an active natural gas pipeline operating in the construction zone), El Paso states that it is seeking case-specific Section 7 authorization under the NGA.

El Paso states that the cost of abandonment by removal, relocation and replacement of facilities is approximately $277,000. El Paso states it will continue to charge its existing Part 284 rates for transportation and will not propose to collect the cost of the relocation, replacement and abandonment of a segment of Line No. 1007 until El Paso files its next general system-wide rate filing scheduled for January 1, 2006.

Any questions regarding this application should be directed to Robert T. Tomlinson, Director, Regulatory Affairs Department, El Paso Natural Gas Company, P.O. Box 1087, Colorado Springs, Colorado 80944, at (719) 520-3788.

There are two ways to become involved in the Commission's review of this project. First, any person wishing to obtain legal status by becoming a party to the proceedings for this project should, on or before December 12, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 01-29573 Filed 11-27-01; 8:45 am]

BILLING CODE 6717-01-P